DEPARTMENT OF AGRICULTURE

Agricultural Marketing Service

[Doc. No. AMS-TM-20-0090]

Notice of Request for a New Collection To Populate an Agritourism Directory

AGENCY: Agricultural Marketing Service, USDA.

ACTION: New collection.

SUMMARY: In accordance with the Paperwork Reduction Act of 1995, this notice announces the Agricultural Marketing Service's (AMS) intention to request approval of a new collection, entitled: Agritourism Directory, from the Office of Management and Budget. Upon approval, we request that this collection be merged into OMB 0581-0169, Local Food Directories and Survey, which was approved January 29, 2020.

DATES: Comments on this notice must be received by January 25, 2021 to be assured of consideration.

ADDRESSES: Interested persons are invited to submit comments concerning this notice. Comments should be submitted online at www.regulations.gov or mail to Edward Ragland, Marketing Services Division, Transportation and Marketing Program, Agricultural Marketing Service, U.S. Department of Agriculture, 1400 Independence Ave. SW, Room 1090 South Building, Ag Stop 0269, Washington, DC 20250-0269.

All comments should be identified with the docket number (AMS-TM-20-0090), the date, and the page number of this issue of the Federal Register. All comments received will be posted without change, including any personal information provided, online at http://www.regulations.gov.

FOR FURTHER INFORMATION CONTACT: Edward Ragland, Marketing Services Division, Transportation and Marketing Program, Agricultural Marketing Service, U.S. Department of Agriculture, 1400 Independence Ave. SW, Room 1090 South Building, Ag Stop 0269, Washington, DC 20250-0269; Tel. 202-720-8317. Comments should reference Docket No. AMS-TM-20-0090.

SUPPLEMENTARY INFORMATION:

Direct Marketing

Title: Agritourism Directory.

OMB Number: 0581-New.

Expiration Date of Approval: Three years from approval.

Type of Request: New collection for new directory.

Abstract: Under the Agricultural Marketing Act of 1946, as amended (7 U.S.C. 1621 et seq.), AMS is responsible for conducting research to enhance market access for small and medium sized farmers. The role of the Marketing Services Division (MSD) of AMS is to facilitate distribution of U.S. agricultural products. The division identifies marketing opportunities, provides analysis to help take advantage of those opportunities and develops and evaluates strategies including methods to diversify farming operations of direct from farm-to-customer enterprises.

Definitions are listed below for the following terms used by AMS for the purposes of the Agritourism Directory: Agritourism directory, a working farm, ranch, aquaculture and agroforestry.

An agritourism directory is a list of working farms, ranches, aquaculture and agroforestry operations that provide education and recreation opportunities, active-involvement experiences (e.g., farming activities, processing), as well as retailing and hospitality (e.g., accommodations, dining) facilities and services for the enjoyment of visitors that generate supplemental income, create and grow farm product markets i.e., for local foods, and build understanding of agriculture.

A working farm, ranch, aquaculture or agroforestry operation is defined as an area of land and buildings, or water (ponds, lakes, rivers, oceans), including within and around cities, that is currently being utilized to raise and grow domesticated animals, plants, trees, and freshwater and marine fish and shellfish, for food and beverages, including vegetables, fruits, herbs, meats, dairy products, oils, cereals, fish and shellfish, and products for direct sales to customers, and/or immediate consumption or enjoyment of customers, that are grown or processed there (e.g., Christmas trees, pinyon seeds, ginseng, wool, wine, beer, cheeses, nursery plants).

This information will be used to build an agritourism directory describing the characteristics of agritourism operations on working farms.

Topic areas in the survey:

—Characteristics of agritourism business

—contact information

—types of products sold

—location of the business

—operation schedule

—activities

Estimate of Burden: Public reporting burden for this collection of information is estimated to average 0.167 hours per response.

Respondents: Operators of agritourism enterprises on working farms.

Estimated Number of Respondents: 10,000.

Estimated Total Annual Responses: 200.

Estimated Number of Responses per Respondent: .02.

Estimated Total Annual Burden on Respondents: 33.4 hours.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to the following addresses:

• Mail: Edward Ragland, Marketing Services Division, Transportation and Marketing Programs, Agricultural Marketing Service, U.S. Department of Agriculture, 1400 Independence Ave. SW, Room 1090 South Building, Ag Stop 0269, Washington, DC 20250-0269.

• Internet: www.regulations.gov.

All written comments should be identified with the docket number AMS-TM-20-0090. It is our intention to have all comments, whether submitted by mail or internet, available for viewing on the Regulations.gov (www.regulations.gov) internet site.

The information collected is to be used only by authorized employees of the USDA, AMS.

All responses to this notice will be summarized and included in the request for OMB approval. All comments will become a matter of public record.

Bruce Summers,
Administrator, Agricultural Marketing Service.

[FR Doc. 2020-25774 Filed 11-23-20; 8:45 am]

BILLING CODE 3410-02-P